DEPARTMENT OF COMMERCE

Office of the Secretary

Proposed Information Collection; Comment Request; Research Performance Progress Report

AGENCY: Office of the Chief Information Officer, Office of the Secretary, Commerce.

ACTION: Notice.

SUMMARY: The Department of Commerce, as part of its continuing effort to reduce paperwork and respondent burden, invites the general public and other Federal agencies to take this opportunity to comment on a proposed extension of an existing information collection: The standardized Research Performance Progress Report (RPPR), as required by the Paperwork Reduction Act of 1995. The purpose of this notice is to allow for 60 days of public comment.

DATES: To ensure consideration, written comments must be submitted on or before May 8, 2018.

ADDRESSES: Written comments may be submitted by any of the following methods:

• Email: PRAcomments@doc.gov. Include “0690-0032 comment” in the subject line of the message.

• Mail: Jennifer Jessup, Departmental PRA Clearance Officer, Department of Commerce, Room 6616, 14th and Constitution Avenue NW, Washington, DC 20230.

FOR FURTHER INFORMATION CONTACT: Requests for additional information or copies of the information collection instrument and instructions should be directed to the Office of Policy and Governance, Paperwork Reduction Act Compliance, Department of Commerce, Room 6616, 14th and Constitution Avenue NW, Washington, DC 20230, or via email to PRAcomments@doc.gov.

SUPPLEMENTARY INFORMATION:

I. Abstract

The development of the Research Performance Progress Report (RPPR) resulted from an initiative of the Research Business Models (RBM), an Interagency Working Group of the Social, Behavioral & Economic Research, Subcommittee of the Committee on Science (CoS), a committee of the National Science and Technology Council (NSTC). One of the RBM Subcommittee's priority areas was to create greater consistency in the administration of Federal research awards. Given the increasing complexity of interdisciplinary and interagency research, it is important for Federal agencies to manage awards in a similar fashion. The RPPR is an OMB approved uniform format to be used by Federal agencies in submission of progress reports that support research and research-related activities. It is intended to replace other performance reporting formats currently in use by Federal agencies. However, the RPPR does not change the performance reporting requirements specified in 2 CFR 200.

The Research Performance Progress Report (RPPR) directly benefits award recipients by making it easier for them to administer Federal grant and cooperative agreement programs through standardization of the types of information required in performance reports—thereby reducing their administrative effort and costs. The RPPR also will make it easier to compare the outputs, outcomes, etc. of research and research-related programs across the government.

The RPPR is intended to address progress for the most recently completed period, at the frequency required or designated by the sponsoring agency. Information, once reported, does not have to be provided again on subsequent reports. The RPPR requests various types of information, regarding: accomplishments, products, participants and other collaborating organizations, impact, changes/problems, budgetary information and outcomes.

II. Method of Collection

A paper format, email, and electronic submission.

III. Data

OMB Control Number: 0690-0032.

Form Number(s): None.

Type of Review: Regular Submission (extension of a currently approved information collection).

Affected Public: Individuals or households; Business or other for-profit organizations; Not-for-profit institutions; State, Local, or Tribal government; Federal government.

Estimated Number of Respondents: 2,550.

Estimated Time per Response: 5 hours.

Estimated Total Annual Burden Hours: 12,750.

Estimated Total Annual Cost to Public: $0. (This is not the cost of respondents' time, but the indirect costs respondents may incur for such things as purchases of specialized software or hardware needed to report, or expenditures for accounting or records maintenance services required specifically by the collection.)

Respondent's Obligation: Mandatory.

Legal Authority: The Federal Financial Assistance Management Improvement Act of 1999 (Pub. L. 106-107), and 2 CFR Section 200.328.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Departmental Lead PRA Officer, Office of the Chief Information Officer.

[FR Doc. 2018-04733 Filed 3-8-18; 8:45 am]

BILLING CODE 3510-17-P